FEDERAL COMMUNICATIONS COMMISSION

47 CFR Part 54

[WC Docket Nos. 10-90, 23-328, 14-58, 09-197, 16-271; WT Docket No. 10-208; FCC 23-60 and 23-87; FR ID 282198]

Connect America Fund et al.

AGENCY: Federal Communications Commission.

ACTION: Final rule; announcement of effective date.

SUMMARY: In this document, the Federal Communications Commission (Commission) announces that the Office of Management and Budget (OMB) has approved, for a period of three years, an information collection associated with certain rules for the Connect America Fund contained in the Commission's Enhanced A-CAM Order of August 17, 2023, and Connect America Fund Order of April 10, 2024 (Orders). This document is consistent with the Orders, which stated that the Commission would publish a document in the Federal Register announcing the effective date of the revised information collection requirement.

DATES: The amendments to 54.316(a)(9) and 54.316(b)(8), published at 88 FR 55918, August 17, 2023 and the amendments to 54.316 (amendatory instruction 13), published at 89 FR 25147, April 10, 2024 are effective February 28, 2025.

FOR FURTHER INFORMATION CONTACT: Jesse Jachman, Wireline Competition Bureau at (202) 418-7400 or TTY (202) 418-0484. For additional information concerning the Paperwork Reduction Act (PRA) information collection requirements contact Nicole Ongele at (202) 418-2991 or via email at Nicole.Ongele@fcc.gov.

SUPPLEMENTARY INFORMATION: The Commission submitted revised information collection requirements for review and approval by OMB, as required by the PRA of 1995, on September 23, 2024. OMB approved the revised information collection requirements on January 10, 2025. The information collection requirements are contained in the Commission's Enhanced A-CAM Order, WC Docket No. 10-90 et al., FCC 23-60, published at 88 FR 55918, August 17, 2023, and Connect America Fund Order, WC Docket No. 10-90 et al., FCC 23-87, published at 89 FR 25147, April 10, 2024. The OMB Control Number is 3060-1228. The Commission publishes this document as an announcement of the effective date of the rules published on August 17, 2023 and April 10, 2024. If you have any comments on the burden estimates listed in the following, or how the Commission can improve the collections and reduce any burdens caused thereby, please contact Nicole Ongele, Federal Communications Commission, 45 L Street NE, Washington, DC 20554. Please include the OMB Control Number, 3060-1228, in your correspondence. The Commission will also accept your comments via email at PRA@fcc.gov. To request materials in accessible formats for people with disabilities (Braille, large print, electronic files, audio format), send an email to fcc504@fcc.gov or call the Consumer and Governmental Affairs Bureau at (202) 418-0530 (voice).

Synopsis

As required by the PRA of 1995 (44 U.S.C. 3507), the Commission is notifying the public that it received OMB approval on January 10, 2025, for the amendments to 54.316(a)(9) and 54.316(b)(8), published at 88 FR 55918, August 17, 2023 and the amendments to 54.316 (amendatory instruction 13), published at 89 FR 25147, April 10, 2024.

Under 5 CFR part 1320, an agency may not conduct or sponsor a collection of information unless it displays a current, valid OMB Control Number.

No person shall be subject to any penalty for failing to comply with a collection of information subject to the PRA that does not display a current, valid OMB Control Number. The OMB Control Number is 3060-1228.

The foregoing notice is required by the PRA of 1995, Public Law 104-13, October 1, 1995, and 44 U.S.C. 3507.

The total annual reporting burdens and costs for the respondents are as follows:

OMB Control Number: 3060-1228.

OMB Approval Date: January 10, 2025.

OMB Expiration Date: January 31, 2028.

Title: Connect America Fund—High Cost Portal Filing.

Form Number: N/A.

Type of Review: Revision of a currently approved collection.

Respondents: Business or other for-profit, not-for-profit institutions.

Number of Respondents and Responses: 2,015 unique respondents; 4,590 responses.

Estimated Time per Response: 8 hours-60 hours.

Frequency of Response: On occasion, quarterly reporting requirements, annual reporting requirements, and recordkeeping requirement.

Obligation to Respond: Required to obtain or retain benefits. Statutory authority for this information collection is contained in 47 U.S.C. 151-154, 155, 201-206, 214, 218-220, 251, 252, 254, 256, 303(r), 332, 403, 405, 410, and 1302.

Total Annual Burden: 86,263 hours.

Total Annual Cost: No Cost.

Needs and Uses: Through several orders, the Commission has recently changed or modified reporting obligations for high-cost support. Pursuant to the following orders, this collection includes location reporting and related certification requirements of high-cost support recipients: Connect America Fund et al., Report and Order, Order and Order on Reconsideration, and Further Notice of Proposed Rulemaking, 31 FCC Rcd 3087 (2016); Connect America Fund et al., Report and Order and Further Notice of Proposed Rulemaking, 31 FCC Rcd 5949 (2016); Connect America Fund et al., Order, 31 FCC Rcd 12086 (2016); Connect America Fund et al., Report and Order and Notice of Proposed Rulemaking, 29 FCC Rcd 876 (2014); Connect America Fund et al., Report and Order, 29 FCC Rcd 15644 (2014); Technology Transitions et al., Order et al., 29 FCC Rcd 1433 (2014); Connect America Fund et al., Report and Order and Further Notice of Proposed Rulemaking, 31 FCC Rcd 10139 (2016); Connect America Fund et al., Order, 32 FCC Rcd 968 (2017); Connect America Fund et al., Report and Order, Further Notice of Proposed Rulemaking, and Order on Reconsideration, 33 FCC Rcd 11-893 (2018); The Uniendo a Puerto Rico and the Connect USVI Fund et al., Report and Order and Order on Reconsideration, 34 FCC Rcd 9109 (2019); Rural Digital Opportunity Fund et al., Report and Order, 35 FCC Rcd 686 (2020); Enhanced A-CAM Report and Order, FCC 23-60; Connect America Fund et al., WC Docket No. 10-90 et al. WT Docket No. 10-208, Notice of Proposed Rulemaking and Report and Order, FCC 23-87 (Oct. 20, 2023).

This information collection addresses the requirement that certain carriers with high-cost reporting obligations file information about the locations to which they have deployed broadband service meeting applicable public interest requirements (location information). The High Cost Universal Broadband portal (HUBB), a web-based portal, is used to accept this information. The Commission and the Universal Service Administrative Company will use this information to monitor the deployment progress of reporting carriers, to verify the reporting carriers' claims of service at the reported locations, and to conform broadband deployment data between the HUBB and the Broadband Data Collection (BDC). Such activities help the Commission ensure that support is being used as intended. In addition, because data filed in the HUBB is publicly accessible, the reporting helps ensure public accountability and transparency.

This information collection further addresses the Commission's efforts to develop and establish a uniform national dataset of locations where broadband could be deployed and upon which new coverage data could be overlaid using a single methodology to harmonize fixed broadband reporting nationwide with granular location data as part of the BDC and required by the Broadband Deployment Accuracy and Technology Availability Act, Public Law 116-130, 134 Stat. 228 (2020) (Broadband DATA Act). In furtherance of its obligations, the Commission established the Broadband Serviceable Location Fabric (Fabric), which consists of a single, nationwide fabric that will contain geocoded information for all locations where a broadband connection can be installed in the United States and territories (Broadband Serviceable Location or BSL). Each BSL contained in the Fabric is provided a unique identification number. The HUBB portal will be updated in order to have support recipients include the unique Fabric identification number when reporting or revising high-cost broadband deployment location data. Including the BSL Fabric Identification Number in HUBB reporting will improve the accuracy and reliability of the broadband data used to monitor progress and ensure accountability with Commission programs. All BSL Fabric Identification Numbers are associated with the latitude, longitude, address, and number of units at the location. Accordingly, reporting the BSL Fabric Identification Number associated with a location encompasses the latitude, longitude, address, and number of units at the location.

This information collection addresses the location reporting and related certification requirements of high-cost support recipients electing to receive support through the Enhanced A-CAM (Enhanced Alternative-Connect America Cost Model) program, see generally Enhanced A-CAM Order, and other programs. On October 30, 2023, the Wireline Competition Bureau (WCB) authorized 368 rate-or-return carriers to receive Enhanced A-CAM support in various states. Of this number, 100 electing carriers had been receiving cost-based Connect America Fund Broadband Loop Support in 118 unique study areas, and 216 electing carriers had been receiving model-based support (A-CAM). The interim and final deployment milestones required for the Enhanced A-CAM program will supersede the existing interim and final deployment milestones for the carriers participating in eligible programs. However, Enhanced A-CAM carriers were required to still report in the HUBB their deployments for calendar year 2023 prior to the start of the support term for Enhanced A-CAM program (January 1, 2024) to ensure carriers continue in good faith to deploy broadband pursuant to existing commitments.

Carriers receiving high-cost support to serve locations are subject to specific public interest obligations related to speed, usage, latency, and price as well as certain deployment milestones. Specifically, the Commission imposed defined deployment obligations and associated HUBB reporting requirements (annual location reporting and build-out certifications) for all fixed support recipients as well as annual reporting and certification requirements for Uniendo a Puerto Rico Fund and Connect USVI Fund Stage 2 mobile support recipients.

Federal Communications Commission.
Marlene Dortch,
Secretary.

[FR Doc. 2025-03325 Filed 2-27-25; 8:45 am]

BILLING CODE 6712-01-P